JUDICIAL CONFERENCE OF THE UNITED STATES

Advisory Committee on Criminal Rules; Meeting of the Judicial Conference

AGENCY: Judicial Conference of the United States.

ACTION: Advisory Committee on Criminal Rules; notice of open meeting.

SUMMARY: The Advisory Committee on Criminal Rules held an in-person meeting in hybrid format with remote attendance options on April 24, 2025 in Washington, DC. The meeting was open to the public for observation but not participation.

DATES: April 24, 2025.

ADDRESSES: The meeting agenda and supporting materials are available at: https://www.uscourts.gov/forms-rules/records-rules-committees/agenda-books.

FOR FURTHER INFORMATION CONTACT: Carolyn A. Dubay, Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: May 6, 2025.
Shelly L. Cox,
Management Analyst, Rules Committee Staff.

[FR Doc. 2025-08213 Filed 5-8-25; 8:45 am]

BILLING CODE 2210-55-P